DEPARTMENT OF HEALTH AND HUMAN SERVICES

Centers for Disease Control and Prevention

[Program Announcement 03073]

Strengthen Tamil Nadu State AIDS Control Society Response to HIV/AIDS Chennai, India; Notice of Intent To Fund Single Eligibility Award

A. Purpose

The Centers for Disease Control and Prevention (CDC) announces the intent to fund fiscal year (FY) 2003 funds for a cooperative agreement program for the Tamil Nadu State AIDS Control Society (TNSACS). The Catalog of Federal Domestic Assistance number for this program is 93.941.

B. Eligible Applicant

Assistance will be provided only to TNSACS. The State Government possesses the capability and institutional capacity to collaborate with the CDC Global AIDS Program (GAP), India in support of activities in the public sector in a way that no other agency or organization in the State of Tamil Nadu is qualified to do.

The State Government and the National AIDS Control Organization (NACO) are currently implementing their HIV/AIDS activities and programs through the TNSACS, which is registered under the Government of India Societies Act. TNSACS is recognized at the national level as the policy and planning organization for all programs related to HIV throughout the state. TNSACS is charged with carrying out and implementing the National and State Government policies on HIV/AIDS.

TNSACS has the infrastructure, including systems to manage funds, as well as the human resources; the supervisory experience; and the expertise needed to track funds.

TNSACS, the State of Tamil Nadu, and CDC GAP have worked collaboratively in developing a plan to build infrastructure and provide training around information systems and a quality assured laboratory at the Chennai-based Government Hospital for Thoracic Medicine (GHTM) since the CDC GAP established activities in Tamil Nadu in 2001. The TNSACS is uniquely qualified to continue to support the GHTM activities initiated by CDC GAP. It is also the most appropriate organization to support the replication and expansion of CDC GAP activities into other areas of the state.

C. Funding

Approximately $50,000 is available in FY 2003 to fund this award. It is expected that the award will begin on or before September 15, 2003, and will be made for a 12-month budget period within a project period of up to five years. Funding estimate may change.

D. Where To Obtain Additional Information

For general comments or questions about this announcement, contact: Technical Information Management, CDC Procurement and Grants Office, 2920 Brandywine Road, Atlanta, GA 30341-4146, Telephone: 770-488-2700.

For technical questions about this program, contact: Nancy Hedemark Nay, MPH, Associate Director for Operations, Global AIDS Program, C/o U.S. Consulate, 220 Mount Road, Chennai, 600 006, India, Telephone: 91-44-2811-2000. e-mail address: nhn1@cdc.gov.

Dated: August 4, 2003.
Edward Schultz,
Acting Director, Procurement and Grants Office, Centers for Disease Control and Prevention.

[FR Doc. 03-20235 Filed 8-7-03; 8:45 am]

BILLING CODE 4163-18-P